DEPARTMENT OF JUSTICE

Office of Justice Programs

[OMB No. 1121-0249]

Agency Information Collection Activities; Agency Information Collection Activities; Proposed Collection; Extension of a Currently Approved Collection; Comment Requested Deaths in Custody—Series of Collections From State-Level Law Enforcement Respondents, Local Jails and State Prisons

ACTION: 60-day notice.

The Department of Justice (DOJ), Office of Justice Programs (OJP), Bureau of Justice Statistics (BJS) will be submitting the following information collection request to the Office of Management and Budget (OMB) for review and approval in accordance with the Paperwork Reduction Act of 1995. The proposed information collection is published to obtain comments from the public and affected agencies. Comments are encouraged and will be accepted for 60 days until August 14, 2012. This process is in accordance with 5 CFR 1320.10.

If you have comments especially on the estimated public burden or associated response time, suggestions, or need a copy of the proposed information collection instrument with instructions or additional information, please contact Margaret Noonan, Statistician, (202) 353-2060, Bureau of Justice Statistics, 810 Seventh St., NW., Washington, DC 20531.

We request written comments and suggestions from the public and affected agencies concerning the proposed collection of information. Your comments should address one or more of the following four points:

—Evaluate whether the proposed collection of information is necessary for the proper performance of the functions of the agency, including whether the information will have practical utility;

—Evaluate the accuracy of the agency's estimate of the burden of the proposed collection of information including the validity of the methodology and assumption used;

—Enhance the quality, utility, and clarity of the information to be collected; and

—Minimize the burden of the collection of information on those who are to respond, including through the use of appropriate automated, electronic, mechanical, or other technological collection techniques or other forms of information technology (e.g., permitting electronic submission of responses).

Overview of This Information Collection

(1) Type of information collection: Renewal of existing collection.

(2) The title of the Form/Collection: Deaths in Custody Reporting Program.

(3) The agency form number, if any, and the applicable component of the Department sponsoring the collection: Forms—Death Report on Inmates Under Jail Jurisdiction (CJ-9); Annual Summary on Inmates Under Jail Jurisdiction (CJ-9A); Death Report on Inmates In Private and Multi-Jurisdictional Jails (CJ-10); Annual Summary on Inmates in Private and Multi-Jurisdictional Jails (CJ-10A); State Prison Inmate Death Report (NPS-4A); Annual Summary of Inmate Deaths in State Prisons (NPS-4); Summary of Arrest-Related Deaths (CJ-11); Arrest-Related Death Report (CJ-11A). The Bureau of Justice Statistics, Office of Justice Programs, Department of Justice is the sponsor for the collection.

(4) Affected public who will be asked to respond, as well as a brief abstract: Primary: Local jail administrators, state prison administrators, and state-level law enforcement respondents. One reporter from each of the estimated 3,000 local jail jurisdictions and one reporter from each of the 50 state prison systems in the United States are asked to provide information on the following categories:

(a) The number of inmates confined in jail facilities on December 31 of the previous year, by sex, either actual or estimated (local jails only);

(b) The number of inmates admitted to jail facilities in the previous year, by sex, either actual or estimated (local jails only);

(c) The average daily population of all jail confinement facilities operated by the jurisdiction in the previous year, by sex, either actual or estimated (local jails only);

(d) The number of persons who died while under the supervision of the jurisdiction in the previous year, by sex, either actual or estimated (local jails only);

(e) The number of persons who died while in custody of state correctional facility during the previous year (state prisons only);

(f) The full name, date of death, date of birth, sex, and race/ethnic origin for each inmate who died during the reporting year;

(g) The name and location of the correctional facility involved for each inmate who died during the reporting year (state prisons only);

(h) The admission date and current offense(s) for each inmate who died during the reporting year;

(i) The legal status for each inmate who died during the reporting year (local jails only);

(j) Whether the inmate ever stayed overnight in a mental health observation unit or outside mental health facility;

(k) The location and cause of death of each inmate death that took place during the reporting year;

(l) The time of day that the incident causing the inmate's death occurred and where the incident occurred (limited to accidents, suicides, and homicides only);

(m) Whether the cause of death was a preexisting medical condition or a condition that developed after admission to the facility and whether the inmate received treatment for the medical condition after admission and if so, the kind of treatment received (deaths due to accidental injury, intoxication, suicide, or homicide do not apply);

(n) Whether an autopsy/postmortem exam/review of medical records to determine the cause of death of the inmate was performed and the availability of those results;

(o) The survey ends with a box in which respondents can enter notes;

(p) Confirmation or correction of the agency and agency head's name, phone number, email address, and mailing address;

(q) Confirmation or correction of the agency's primary point of contact for data collection, title, phone number, email address, and mailing address;

(r) Confirmation or correction of the names of facilities within the jurisdiction;

(s) Whether the facility holds inmates for U.S. Immigration and Customs Enforcement (ICE) inmates, U.S. Marshals Service, or other counties, jurisdictions or correctional authorities.

A total of 52 respondents, comprising of 50 state-level respondents, representing each state, and two local-level law enforcement agencies representing the District of Columbia and New York City are asked to provide information on the number of persons who died during the process of arrest by state or local law enforcement in the reporting year. In addition, state-level law enforcement respondents are asked to provide the following information for each person who died during the process of arrest in the reporting year:

(a) The full name, date of death, date of birth, sex, and race/ethnic origin;

(b) The name and ORI number of the law enforcement agency involved;

(c) The address, and location type, of the incident that caused the death;

(d) The reason for the initial contact between law enforcement and the deceased, as well as whether specialize units responded during the incident;

(e) Whether the deceased engaged in non-compliant or aggressive behavior during the process of arrest;

(f) Whether the deceased possessed, threaten to use, or used any weapons during the process of arrest;

(g) Whether law enforcement personnel engage in tactics to restrain or used restraints or weapons during the process of arrest;

(h) Whether the deceased sustained injuries during the incident and whether law enforcement personnel, the decedent, or another civilian was responsible for inflicting injuries;

(i) The type of weapon that caused the death;

(j) The location, date, time, manner, and cause of death;

(k) Whether the autopsy or post-mortem evaluation indicated the presences of alcohol, other drugs, or confirmed psychological diagnosis;

(l) The survey ends with a box in which respondents can enter notes.

The Bureau of Justice Statistics uses this information in published reports and statistics. The reports will be made available to the U.S. Congress, Executive Office of the President, practitioners, researchers, students, the media, others interested in criminal justice statistics, and the general public.

(5) An estimate of the total number of respondents and the amount of time estimated for an average respondent to respond: An approximate 3,102 total respondents will be asked to submit an estimated 11,152 responses each year to this collection program. The typical amount of time needed for a respondent to complete each form is broken down as follows:

Local jails/death reports (forms CJ-9 and CJ-10)—600 respondents will have an average response time of 30 minutes per form, for a total of 451 hours. Analysis of data from past years shows that approximately 80% of jails nationwide have zero deaths in a given calendar year. Thus, based on the 2010 data, approximately 20% of the 3,000 jails will complete death reports, resulting in 600 respondents. Respondents reporting zero deaths will not need to complete a death report form. Based on 2009 and 2010 data, approximately 22% of the total 4,100 death reports received was from jail respondents; thus, we expect to receive approximately 902 death reports from jails. For jurisdictions reporting a death, the average response time is estimated at 30 minutes per death, for a total of 451 hours devoted to reporting data on deaths in jails. The estimated time is based on feedback from jail staff.

Local jails/annual (forms CJ-9A and CJ-10A)—an estimated 3,000 jail respondents will have an average response time of 15 minutes per form, for a total of 750 hours. The estimated time is based on feedback from jail staff.

State prison/death reports (form NPS-A)—50 state prison respondents are estimated to have an average response time of 30 minutes per death, across 3,198 deaths each year, for a total of 1,599 hours. Based on 2009 and 2010 data, 78% of the total 4,100 death reports received was from state prisons; thus, we expect to receive approximately 3,198 death reports from state prisons. The estimated time is based on feedback from state prison staff.

State prison/annual (form NPS-4)—50 state prison respondents are estimated to have an average response time of 5 minutes per form, for a total of 4 hours. Based on 2010 data, we expect approximately 50 respondents. The estimated time is based on feedback from state prison staff.

Local jail and state prisons (verification call)—3,050 respondents (3,000 jail jurisdiction respondents and 50 state department of corrections respondents) will be asked to participate in the verification call, which has an average response time of 8 minutes per call, for a total of 407 hours (400 for jail respondents and 7 for state prison respondents). The estimated time is based on the average time to complete a verification call with a respondent.

Arrest-Related/death reports (CJ-11A)—50 state-level respondents and 2 local law enforcement agencies are estimated to have an average response time of 60 minutes per death, across 900 deaths each year, for a total of 900 hours.

Arrest-Related/summary (CJ-11)—50 state-level respondents and 2 local law enforcement agencies are estimated to have an average response time of 5 minutes per form, for a total of 4 hours. Based on 2010 data, we expect approximately 50 respondents. The estimated time is based on feedback from state-level respondents.

(6) An estimate of the total public burden (in hours) associated with the collection: 4,115 annual burden hours. The estimates contributing to this calculation are provided in the table below.

Summary of Total Respondent Burden for DCRP Data Collection
Reporting method | Type of data supplier | Number of data suppliers | Number of responses | Average reporting time | Total burden hours
Mail and Online Data Entry | Local Jails—Death Records ¹ | 600 | 902 | 30 minutes per death | 451
Mail and Online Data Entry | Local Jails—Annual Summary ² | 3,000 | 3,000 | 15 minutes | 750
Mail and Online Data Entry | State Prison—Death Records ³ | 50 | 3,198 | 30 minutes per death | 1,599
Mail and Online Data Entry | State Prison—Annual Summary ⁴ | 50 | 50 | 5 minutes | 4
Telephone | Local Jails- Verification Call | 3,000 | 3,000 | 8 minutes | 400
Telephone | State Prisons—Verification Call | 50 | 50 | 8 minutes | 7
Mail, Email, and Fax | Arrest-Related Death Record ⁵ | 52 | 900 | 60 minutes per death | 900
Mail, Email, and Fax | Arrest-Related Death Summary ⁶ | 52 | 52 | 5 minutes | 4
Total |  | 3,102 | 11,152 |  | 4,115
¹ The forms associated with local jail death records are forms CJ-9 and CJ-10.
² The forms associated with local jail annual summaries are forms CJ-9A and CJ-10A.
³ The form associated with the state prison death records is form NPS-4A.
⁴ The form associated with the state prison annual summary is form NPS-4.
⁵ The form associated with arrest-related death records is form CJ-11A.
⁶ The form associated with arrest-related death summary is form CJ-11.

If additional information is required contact: Jerri Murray, Department Clearance Officer, United States Department of Justice, Justice Management Division, Policy and Planning Staff, Two Constitution Square, 145 N Street NE., Suite 2E-508, Washington, DC 20530.

Jerri Murray,
Department Clearance Officer, PRA, U.S. Department of Justice.

[FR Doc. 2012-14614 Filed 6-14-12; 8:45 am]

BILLING CODE 4410-18-P